ENVIRONMENTAL PROTECTION AGENCY

[EPA-R04-OW-2008-0179;FRL-8543-7]

Proposed Determination To Prohibit, Restrict, or Deny the Specification, or the Use for Specification, of an Area as a Disposal Site, Yazoo River Basin, Issaquena County, MS

Correction

In notice document E8-5401 beginning on page 14806, in the issue of Wednesday, March 19, 2008, make the following correction:

On page 14815, footnote 22 is missing and is corrected to read:

²² EPA, 2008. Synopsis of Yazoo Backwater Area Hydrology. Wetlands Regulatory Section, Water Management Division, EPA Region 4, Atlanta, GA.

[FR Doc. Z8-5401 Filed 4-2-08; 8:45 am]

BILLING CODE 1505-01-D